DEPARTMENT OF TRANSPORTATION

Federal Aviation Administration

14 CFR Part 39

[Docket No. FAA-2014-0230; Directorate Identifier 2013-NM-242-AD; Amendment 39-18070; AD 2015-02-03]

RIN 2120-AA64

Airworthiness Directives; Airbus Airplanes

AGENCY: Federal Aviation Administration (FAA), Department of Transportation (DOT).

ACTION: Final rule.

SUMMARY: We are adopting a new airworthiness directive (AD) for certain Airbus Model A300 B4-601, B4-603, B4-605R, F4-605R, and C4-605R Variant F airplanes. This AD was prompted by reports of cracking found in the pylon box, which was due to the stresses resulting from the pressure applied by the thrust reverser cowl bumpers. This AD requires repetitive high frequency eddy current (HFEC) inspections for cracking; and replacement of all fittings if necessary, which terminates the repetitive HFEC inspections for the modified side only. We are issuing this AD to detect and correct cracks of the pylon rib 5, which could result in reduced structural integrity of the airplane.

DATES: This AD becomes effective March 5, 2015.

The Director of the Federal Register approved the incorporation by reference of certain publications listed in this AD as of March 5, 2015.

ADDRESSES: You may examine the AD docket on the Internet at http://www.regulations.gov/#!docketDetail;D=FAA-2014-0230; or in person at the Docket Management Facility, U.S. Department of Transportation, Docket Operations, M-30, West Building Ground Floor, Room W12-140, 1200 New Jersey Avenue SE., Washington, DC.

For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

FOR FURTHER INFORMATION CONTACT: Dan Rodina, Aerospace Engineer, International Branch, ANM-116, Transport Airplane Directorate, FAA, 1601 Lind Avenue SW., Renton, Washington 98057-3356; telephone 425-227-2125; fax 425-227-1149.

SUPPLEMENTARY INFORMATION:

Discussion

We issued a notice of proposed rulemaking (NPRM) to amend 14 CFR part 39 by adding an AD that would apply to certain Airbus Model A300 B4-601, B4-603, B4-605R, F4-605R, and C4-605R Variant F airplanes. The NPRM published in the Federal Register on April 14, 2014 (79 FR 20837).

The European Aviation Safety Agency (EASA), which is the Technical Agent for the Member States of the European Union, has issued EASA Airworthiness Directive 2013-0286R1, dated June 6, 2014 (referred to after this as the Mandatory Continuing Airworthiness Information, or “the MCAI”), to correct an unsafe condition for certain Airbus Model A300 B4-601, B4-603, B4-605R, F4-605R, and C4-605R Variant F airplanes. The MCAI states:

Cracks were found on the lower side of rib 5 in the pylon box on A300 aeroplanes powered with General Electric engines.

Investigations revealed that these cracks were due to the stresses resulting from the pressure applied by the thrust reverser cowl bumpers.

This condition, if not detected and corrected, could affect the structural integrity of the aeroplane.

Airbus developed an inspection programme to detect the cracks and associated actions to correct them.

For the reasons described above, EASA issued AD 2013-0286 [http://ad.easa.europa.eu/blob/easa_ad_2013_0286_R1.pdf/AD_2013-0286R1_2] to require repetitive [HFEC] inspections of the pylon rib 5 on the left hand side (LH) and right hand (RH) side and, when cracks are detected, replacement of the affected structural part(s). [Replacement of all fittings terminates the repetitive HFEC inspections.]

Since that [EASA] AD was issued, it was found that the [EASA] AD has inadvertently been made applicable to all A300-600 Models, which is incorrect. This [EASA] AD has been revised to reduce the Applicability to only the affected Models.

You may examine the MCAI in the AD docket on the Internet at http://www.regulations.gov/#!documentDetail;D=FAA-2014-0230-0004.

Revision to Applicability

Since the NPRM (79 FR 20837, April 14, 2014), was issued, we have determined that paragraph (c), “Applicability,” of this AD should not include Airbus Model A300 B4-620, B4-622, B4-622R, and F4-622R airplanes. We have removed these airplanes from paragraph (c) of this AD, and have revised the SUMMARY section and Costs of Compliance section of this final rule accordingly.

Comments

We gave the public the opportunity to participate in developing this AD. The following presents the comments received on the NPRM (79 FR 20837, April 14, 2014) and the FAA's response to each comment.

Request for Credit for Modification

FedEx requested that we revise paragraph (i) of the NPRM (79 FR 20837, April 14, 2014) to indicate that prior incorporation of the modification specified in Airbus Service Bulletin A300-54-6031, dated May 30, 1996, provides credit as a terminating action for the repetitive HFEC inspections specified in the NPRM.

We find that clarification is necessary. Paragraph (h) of this AD already specifies that accomplishment of the referenced modification is terminating action for the repetitive HFEC inspections required by paragraph (g)(1) of this AD for the modified side only. We have made no change to this AD in this regard.

Request for Clarification

UPS requested that we revise paragraphs (g)(2) and (h) of the NPRM (79 FR 20837, April 14, 2014) to clarify that replacement of fittings is to be done on the affected pylon or on the modified side only. UPS reasoned that one interpretation of the phrase “all the fittings” would be to replace the fittings in the left and right pylons, even though cracking was found in only one of the pylons.

We agree to clarify. We have revised paragraphs (g)(2) and (h) of this AD to include the clarifications requested by the commenter.

“Contacting the Manufacturer” Paragraph in This AD

Since late 2006, we have included a standard paragraph titled “Airworthy Product” in all MCAI ADs in which the FAA develops an AD based on a foreign authority's AD.

We have become aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request the approval for an alternative method of compliance to the AD-required actions using the procedures found in 14 CFR 39.19.

To address this misunderstanding and misinterpretation of the Airworthy Product paragraph, we have changed the paragraph and retitled it “Contacting the Manufacturer.” This paragraph now clarifies that for any requirement in this AD to obtain corrective actions from a manufacturer, the actions must be accomplished using a method approved by the FAA, the EASA, or Airbus's EASA Design Organization Approval (DOA).

The Contacting the Manufacturer paragraph also clarifies that, if approved by the DOA, the approval must include the DOA-authorized signature. The DOA signature indicates that the data and information contained in the document are EASA-approved, which is also FAA-approved. Messages and other information provided by the manufacturer that do not contain the DOA-authorized signature approval are not EASA-approved, unless EASA directly approves the manufacturer's message or other information.

This clarification does not remove flexibility previously afforded by the Airworthy Product paragraph. Consistent with long-standing FAA policy, such flexibility was never intended for required actions. This is also consistent with the recommendation of the Airworthiness Directive Implementation Aviation Rulemaking Committee to increase flexibility in complying with ADs by identifying those actions in manufacturers' service instructions that are “Required for Compliance” with ADs. We continue to work with manufacturers to implement this recommendation. But once we determine that an action is required, any deviation from the requirement must be approved as an alternative method of compliance.

We also have decided not to include a generic reference to either the “delegated agent” or “design approval holder (DAH) with State of Design Authority design organization approval,” but instead we have provided the specific delegation approval granted by the State of Design Authority for the DAH.

Conclusion

We reviewed the relevant data, considered the comments received, and determined that air safety and the public interest require adopting this AD with the changes described previously and minor editorial changes. We have determined that these minor changes:

• Are consistent with the intent that was proposed in the NPRM (79 FR 20837, April 14, 2014) for correcting the unsafe condition; and

• Do not add any additional burden upon the public than was already proposed in the NPRM (79 FR 20837, April 14, 2014).

We also determined that these changes will not increase the economic burden on any operator or increase the scope of this AD.

Related Service Information

We reviewed Airbus Service Bulletin A300-54-6031, dated May 30, 1996; and Airbus Service Bulletin A300-54-6034, Revision 02, dated August 26, 2013. The service information describes procedures for repetitive HFEC inspections for cracking of the lower side of rib 5 in the LH and RH pylon box and replacing certain fittings. You can find this information at http://www.regulations.gov by searching for and locating Docket No. FAA-2014-0230.

Costs of Compliance

We estimate that this AD affects 54 airplanes of U.S. registry.

We also estimate that it will take about 9 work-hours per product to comply with the basic requirements of this AD. The average labor rate is $85 per work-hour. Required parts will cost $0 per product. Based on these figures, we estimate the cost of this AD on U.S. operators to be $41,310, or $765 per product.

In addition, we estimate that any necessary follow-on actions will take about 32 work-hours and require parts costing $2,450, for a cost of $5,170 per product. We have no way of determining the number of aircraft that might need this action.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0230; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-02-03 Airbus: Amendment 39-18070. Docket No. FAA-2014-0230; Directorate Identifier 2013-NM-242-AD.

(a) Effective Date

This AD becomes effective March 5, 2015.

(b) Affected ADs

None.

(c) Applicability

This AD applies to Airbus Model A300 B4-601, B4-603, B4-605R, F4-605R, and C4-605R Variant F airplanes, certificated in any category, all manufacturer serial numbers, except those on which Airbus Modification 11110 has been embodied in production, or that have been modified in service as specified in Airbus Service Bulletin A300-54-6031, dated May 30, 1996.

(d) Subject

Air Transport Association (ATA) of America Code 54, Nacelles/Pylons.

(e) Reason

This AD was prompted by reports of cracking found in the pylon box, which was due to the stresses resulting from the pressure applied by the thrust reverser cowl bumpers. We are issuing this AD to detect and correct cracks of the pylon rib 5, which could result in reduced structural integrity of the airplane.

(f) Compliance

Comply with this AD within the compliance times specified, unless already done.

(g) Inspection and Replacement

(1) Before the accumulation of 15,000 total flight hours since the airplane's first flight, or within 6,000 flight hours after the effective date of this AD, whichever occurs later: Do a high frequency eddy current (HFEC) inspection for cracking on the lower area of rib 5 on the left-hand and right-hand side pylons, in accordance with the Accomplishment Instructions of Airbus Service Bulletin A300-54-6034, Revision 02, dated August 26, 2013. Repeat the inspection thereafter at intervals not to exceed 15,000 flight hours.

(2) If any crack is found during any inspection required by paragraph (g)(1) of this AD, before further flight, replace all the fittings—on the affected pylon only—with new standard fittings, in accordance with the Accomplishment Instructions of Airbus Service Bulletin A300-54-6031, dated May 30, 1996.

(h) Terminating Action

Replacement of all fittings as required by paragraph (g)(2) of this AD; or modification of pylons in accordance with the Accomplishment Instructions of Airbus Service Bulletin A300-54-6031, dated May 30, 1996; terminates the repetitive HFEC inspections required by paragraph (g)(1) of this AD for the modified side only.

(i) Credit for Previous Actions

This paragraph provides credit for the inspections required by paragraph (g)(1) of this AD, if those actions were performed before the effective date of this AD using Airbus Service Bulletin A300-54-6034, Revision 01, dated September 14, 1999, which is not incorporated by reference in this AD.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, Washington 98057-3356; telephone 425-227-2125; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(k) Related Information

(1) Refer to Mandatory Continuing Airworthiness Information (MCAI) EASA Airworthiness Directive 2013-0286R1, dated June 6, 2014, for related information. This MCAI may be found in the AD docket on the Internet at http://www.regulations.gov/#!documentDetail;D=FAA-2014-0230-0004.

(2) Service information identified in this AD that is not incorporated by reference is available at the addresses specified in paragraphs (l)(3) and (l)(4) of this AD.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A300-54-6031, dated May 30, 1996.

(ii) Airbus Service Bulletin A300-54-6034, Revision 02, dated August 26, 2013.

(3) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on January 12, 2015.
John P. Piccola, Jr.,
Acting Manager, Transport Airplane Directorate, Aircraft Certification Service.

[FR Doc. 2015-00997 Filed 1-28-15; 8:45 am]

BILLING CODE 4910-13-P